DEPARTMENT OF STATE

[Public Notice 8226]

Waiver of Restriction on Assistance to the Central Government of the Central African Republic

Pursuant to Section 7031(b)(3) of the Department of State, Foreign Operations, and Related Programs Appropriations Act, 2010 (Division F, Pub. L. 112-74) (“the Act”), and Department of State Delegation of Authority Number 245-1, I hereby determine that it is important to the national interest of the United States to waive the requirements of Section 7031(b)(1) of the Act with respect to the Central African Republic and I hereby report the waiver of this restriction.

This determination and the accompanying Memorandum of Justification shall be reported to the Congress, and the determination shall be published in the Federal Register.

Dated: November 16, 2012.
Thomas R. Nides,
Deputy Secretary for Management and Resources.

Editorial Note: This document was received in the Office of the Federal Register on March 8, 2013.

[FR Doc. 2013-05822 Filed 3-12-13; 8:45 am]

BILLING CODE 4710-26-P